DEPARTMENT OF HEALTH AND HUMAN SERVICES

National Institutes of Health

National Institute of Allergy and Infectious Diseases; Notice of Meeting

Pursuant to section 1009 of the Federal Advisory Committee Act, as amended, notice is hereby given of a meeting of the AIDS Research Advisory Committee, NIAID.

The meeting will be open to the public. The open sessions will be videocast and can be accessed from the NIH Videocasting and Podcasting website (http://videocast.nih.gov). Individuals who plan to attend and need special assistance, such as sign language interpretation or other reasonable accommodations, should notify the Contact Person listed below in advance of the meeting.

Name of Committee: AIDS Research Advisory Committee, NIAID.

Date: April 6, 2026.

Time: 1:00 p.m. to 5:00 p.m.

Agenda: Report of Division Director and Division Staff.

Address: National Institute of Allergy and Infectious Diseases, Nation Institutes of Health, 5601 Fishers Lane, Grand Hall, Rockville, MD 20892.

Meeting Format: Virtual Meeting.

Contact Person: Martin Gutierrez, Program Coordinator, Scientific Planning and Operations, Division of AIDS, National Institute of Allergy and Infectious Diseases, Nation Institutes of Health, 5601 Fishers Lane, Room 8D50, Rockville, MD 20892, 240-292-4844, mgutierrez@mail.nih.gov.

Any interested person may file written comments with the committee by forwarding the statement to the Contact Person listed on this notice. The statement should include the name, address, telephone number and when applicable, the business or professional affiliation of the interested person.

Dated: January 15, 2026.
Bruce A. George,
Program Analyst, Office of Federal Advisory Committee Policy.

[FR Doc. 2026-01019 Filed 1-20-26; 8:45 am]

BILLING CODE 4140-01-P